INTERNATIONAL TRADE COMMISSION

Public Availability of FY 2012 Service Contract Inventory Analysis, FY 2013 Service Contract Inventory, and FY 2013 Service Contract Inventory Planned Analysis

AGENCY: U.S. International Trade Commission.

ACTION: Notice.

SUMMARY: In accordance with Section 743 of Division C of the Consolidated Appropriations Act of 2010 (Pub. L. 111-117), the U.S. International Trade Commission is publishing this notice to advise the public of the availability of the FY 2012 Service Contract Inventory Analysis, the FY 2013 Service Contract Inventory, and the FY 2013 Service Contract Inventory Planned Analysis. The FY 2012 inventory analysis provides information on specific service contract actions that were analyzed as part of the FY 2012 inventory. The 2013 inventory provides information on service contract actions over $25,000 that were made in FY 2013. The inventory information is organized by function to show how contracted resources are distributed throughout the agency. The inventory has been developed in accordance with guidance issued on November 5, 2010 by the Office of Management and Budge's Office of Federal Procurement Policy (OFPP). OFPP's guidance is available at http://www.whitehouse.gov/sites/default/files/omb/procurement/memo/service-contract-inventories-guidance-11052010.pdf. The FY 2013 inventory planned analysis provides information on which functional areas will be reviewed by the agency. The United States International Trade Commission has posted its FY 2013 inventory, FY 2013 planned analysis, and FY 2012 inventory analysis at the following link: http://www.usitc.gov/procurement/.

FOR FURTHER INFORMATION CONTACT: Questions regarding the service contract inventory should be directed to Debra Bridge, U.S. International Trade Commission, Office of Procurement, 500 E Street SW., Washington, DC 20436, or at 202-205-2004 or debra.bridge@usitc.gov.

By order of the Commission.
Issued: August 11, 2014.
Lisa R. Barton,
Secretary to the Commission.

[FR Doc. 2014-19352 Filed 8-14-14; 8:45 am]

BILLING CODE 7020-02-P